DEPARTMENT OF LABOR

Employment and Training Administration

[TA-W-56,364; TA-W-56,364A; TA-W-56,364B]

Dunmore Furniture Industries a/k/a Hat, Inc., Plant 1, Hickory, NC; Dunmore Furniture Industries a/k/a Hat, Inc., Plant 2, Granite Falls, NC; Dunmore Furniture Industries a/k/a Hat, Inc., Plant 3, Newton, NC; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on February 23, 2005, applicable to workers of Dunmore Furniture Industries, Plant 1, Hickory, North Carolina, Dunmore Furniture Plant 2, Granite Falls, North Carolina and Dunmore Furniture, Plant 3, Newton, North Carolina. The notice was published in the Federal Register on March 9, 2005 (70 FR 11704).

At the request of the State agency, the Department reviewed the certification for workers of the subject firm. The workers were engaged in the production of upholstered furniture.

New information shows that prior to October 2004, the name of the subject firm was Hat, Inc. a/k/a Dunmore Furniture Industries and that some workers separated from employment at the subject firm had their wages reported under a separate unemployment insurance (UI) tax account for Hat, Inc.

Accordingly, the Department is amending the certification to properly reflect this matter.

The intent of the Department's certification is to include all workers of Dunmore Furniture Industries, Plant 1, Hickory, North Carolina, Dunmore Furniture, Plant 2, Granite Falls, North Carolina, and Dunmore Furniture, Plant 3, Newton, North Carolina, who were adversely affected by increased imports.

The amended notice applicable to TA-W-56,364, TA-W-56,364A and TA-W-56,364B is hereby issued as follows:

All workers of Dunmore Furniture Industries, a/k/a Hat, Inc., Plant 1, Hickory, North Carolina (TA-W-56,364), Dunmore Furniture Industries, a/k/a Hat, Inc., Plant 2, Granite Falls, North Carolina (TA-W-56,364A) and Dunmore Furniture Industries, a/k/a Hat, Inc., Plant 3, Newton, North Carolina (TA-W-56,364B), who became totally or partially separated from employment on or after January 14, 2004, through February 23, 2007, are eligible to apply for adjustment assistance under Section 223 of the Trade Act of 1974, and are also eligible to apply for alternative trade adjustment assistance under Section 246 of the Trade Act of 1974.

Signed at Washington, DC, this 29th day of March 2005.
Linda G. Poole,
Certifying Officer, Division of Trade Adjustment Assistance.

[FR Doc. E5-1525 Filed 4-4-05; 8:45 am]

BILLING CODE 4510-30-P